ENVIRONMENTAL PROTECTION AGENCY

[OPP-2003-0189; FRL-7310-2]

Diazinon; Notice of Requests to Voluntarily Cancel Certain Pesticide Products

AGENCY: Environmental Protection Agency (EPA).

ACTION: Notice.

SUMMARY: In accordance with section 6(f)(1) of the Federal Insecticide, Fungicide, and Rodenticide Act (FIFRA), as amended, EPA is issuing a notice of requests by Drexel Chemical Company and Makhteshim Chemical Works, Ltd. to voluntarily cancel the registrations for all of their outdoor non-agricultural manufacturing-use products containing diazinon and a request by Walla Walla Environmental, Inc. to cancel one of its outdoor non-agricultural end-use products containing diazinon [O,O-Diethyl O-(2-isopropyl-6-methyl-4-pyrimidinyl) phosphorothioate]. The EPA intends to grant these requests by issuing a cancellation order at the close of the comment period for this announcement, unless the Agency receives substantive comments within the comment period that would merit its further review of these requests. It is EPA's intent that the cancellation of the outdoor non-agricultural manufacturing-use products will be effective upon issuance of the cancellation order, after the comment period, and that the cancellation of the outdoor non-agricultural end-use product will be effective August 31, 2003. The Agency requests public comment on these voluntary cancellation requests, and is providing a 30-day comment period.

DATES: Comments on the requested registration cancellations must be submitted to the address provided below and identified by docket ID number OPP-2003-0189. Comments must be received on or before August 11, 2003.

FOR FURTHER INFORMATION CONTACT: Stephanie Plummer, Special Review and Reregistration Division (7508C), Office of Pesticide Programs, Environmental Protection Agency, 1200 Pennsylvania Ave., NW., Washington, DC 20460-0001; telephone number: (703) 305-0076; e-mail address: plummer.stephanie@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0189. The official public docket consists of the documents specifically referenced in this action, any public comments received, and other information related to this action. Although a part of the official docket, the public docket does not include Confidential Business Information (CBI) or other information whose disclosure is restricted by statute. The EPA also established two dockets containing documents in support of the diazinon IRED. They are dockets OPP-34225 and OPP-2002-0251. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces requests made by Drexel Chemical Co. and Makhteshim Chemical Works, Ltd. to voluntarily cancel registrations for all of their outdoor non-agricultural manufacturing-use products containing diazinon and a request by Walla Walla Environmental, Inc. to cancel one of its outdoor non-agricultural end-use products containing diazinon. These registrations are listed in sequence by registration number in Table 1 of this unit.

A. Background Information

Diazinon is an organophosphorous insecticide and is one of the most widely used insecticides in the U.S. It is used for outdoor non-agricultural, as well as agricultural, pest control.

Under the December 5, 2000 MOA between the technical registrants of diazinon and the EPA, as well as a February 14, 2001 letter from Drexel Chemical Co., both Makhteshim Chemical Works, Ltd. and Drexel Chemical Co. requested, under FIFRA section 6(f), that EPA cancel, effective as of June 30, 2003, the registrations of all diazinon manufacturing-use products permitting formulation for outdoor non-agricultural use. In a June 5, 2003 letter, Walla Walla Environmental, Inc. requested, under FIFRA section 6(f), that EPA cancel, effective August 31, 2003, the registration of one outdoor non-agricultural end-use product. EPA intends to grant these requests by issuing a cancellation order at the close of the comment period for this announcement, unless the Agency receives substantive comments within the comment period that would merit its further review of these requests.

The Reregistration Eligibilty Decision (RED) document summarizes the findings of EPA's reregistration process for individual chemical cases, and reflects the Agency's decision on risk assessment and risk management for uses of individual pesticides. Diazinon belongs to a group of pesticides known as organophosphates (OPs). EPA has issued the Interim RED assessing the risks of exposure from diazinon.

B. Requests for Voluntary Cancellation

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation. In addition, section 6(f)(1)(C) of FIFRA requires that EPA provide a 180-day comment period on a request for voluntary termination of any minor agricultural use before granting the request, unless (1) the registrants request a waiver of the comment period, or (2) the Administrator determines that continued use of the pesticide would pose an unreasonable adverse effect on the environment. Makhteshim Chemical Works, Ltd., Drexel Chemical Co., and Walla Walla Environmental, Inc. have requested a waiver of the comment period. The EPA will therefore apply a 30-day comment period.

Table 1.—Registrations with Pending Requests for Cancellation
Registration No. | Product name | Chemical name
11678-62 | Diazol Diazinon Technical Stabilized HG | Diazinon
11678-64 | Diazol Diazinon Stabilized Oil Concentrate HG | Diazinon
19713-524 | Drexel Diazinon Technical HG | Diazinon
47332-4 | CPF-2D Insecticide | Diazinon

Unless the Agency determines that there are substantive comments that warrant further review of these requests, an order will be issued canceling all of these registrations.

Table 2 of this unit includes the names and addresses of record for all registrants of the products in Table 1 of this unit, in sequence by EPA company number:

Table 2.—Registrants Requesting Voluntary Cancellation
EPA Company No. | Company name and address
11678 | Makhteshim Chemical Works, Ltd. 551 Fifth Avenue, Suite 1100 New York, NY 10176
19713 | Drexel Chemical Co., 1700 Channel Avenue P.O. Box 13327 Memphis, TN 38113
47332 | Walla Walla Environmental, Inc., P.O. Box 1298, Walla Walla, WA 99362

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Provisions for Disposition of Existing Stocks

The Agency intends to issue a cancellation order following consideration of all comments received during the comment period, unless the comments warrant further review of this request.

Existing stocks are those stocks of registered pesticide products which are currently in the United States and which have been packaged, labeled, and released for shipment prior to the effective date of the cancellation action. In a 2000 MOA between the EPA and the technical registrants of diazinon, the involved parties agreed to the following existing stocks provisions for outdoor non-agricultural manufacturing-use and end-use products:

A. Outdoor Non-Agricultural Manufacturing-Use Products

1. Distribution or sale. The distribution or sale of existing stocks of any outdoor non-agricultural manufacturing-use product referenced in this Notice (EPA Reg. No. 11678-62, 11678-64, and 19713-524) will not be lawful after the effective cancellation date, except for the purposes of export consistent with FIFRA section 17 and proper disposal in accordance with applicable law.

2. Use for producing other products. The use of existing stocks of any manufacturing- use product referenced in this Notice for formulation into any other product labeled for outdoor non-agricultural use will not be lawful under FIFRA after the effective date of the cancellation order.

The effective date of the cancellation order is intended to be immediate for the products listed in Table 1; however, EPA will consider any comments received within 30 days of publication of this Notice in the Federal Register prior to canceling the affected registrations.

B. Outdoor Non-Agricultural End-Use Products

1. Distribution or sale by Registrant. The distribution, sale, or use of existing stocks by Walla Walla Environmental, Inc. of the end-use product referenced in this Notice (EPA Reg. No. 47332-4)will not be lawful under FIFRA after August 31, 2003, except for purposes of shipping such stocks for export consistent with the requirements of FIFRA section 17 or proper disposal in accordance with applicable law.

2. Retail and other distribution or sale. The distribution or sale of existing stocks by persons other than Walla Walla Environmental, Inc. will be prohibited after December 31, 2004, except for purposes of product recovery pursuant to the 2000 MOA, shipping such stocks for export consistent with the requirements of FIFRA section 17, or proper disposal in accordance with applicable law.

3. Use of existing stocks. Use of existing stocks may continue until stocks are exhausted. Any such use must be in accordance with the label.

List of Subjects

Environmental protection, Pesticides and pests.

Dated: June 25, 2003.
Richard P. Keigwin, Jr.,
Director, Special Review and Reregistration Division, Office of Pesticide Programs.

[FR Doc. 03-17512 Filed 7-10-03; 8:45 am]

BILLING CODE 6560-50-S